DEPARTMENT OF LABOR

Employment and Training Administration

[TA-W-61,748]

The Apparel Group, Foxcroft Sportswear Division, Fall River, MA; Notice of Termination of Investigation

Pursuant to Section 221 of the Trade Act of 1974, an investigation was initiated on June 26, 2007 in response to a worker petition filed by a company official on behalf of workers at The Apparel Group, Foxcroft Sportswear Division, Fall River, Massachusetts.

The petitioner has requested that the petition be withdrawn. Consequently, the investigation has been terminated.

Signed at Washington, DC this 3rd day of July, 2007.
Richard Church,
Certifying Officer, Division of Trade Adjustment Assistance.

[FR Doc. E7-13788 Filed 7-16-07; 8:45 am]

BILLING CODE 4510-FN-P